DEPARTMENT OF TRANSPORTATION

Federal Aviation Administration

14 CFR Part 39

[Docket No. FAA-2004-19038; Directorate Identifier 2004-SW-24-AD; Amendment 39-13964; AD 2005-03-08]

RIN 2120-AA64

Airworthiness Directives; Eurocopter France Model AS350B, BA, B1, B2, B3, C, D, D1, and EC130 B4 Helicopters

AGENCY: Federal Aviation Administration, DOT.

ACTION: Final rule.

SUMMARY: This amendment adopts a new airworthiness directive (AD) for Eurocopter France (Eurocopter) Model AS350B, BA, B1, B2, B3, C, D, D1, and EC130 B4 helicopters that requires removing and modifying the fuel bleed lever. This amendment is prompted by some cases of loss of the fuel bleed lever in flight. If the tension of the control cable is too low, the cable may vibrate out of its notch, resulting in the fuel bleed lever separating from the hinge. The actions specified by this AD are intended to prevent a fuel bleed lever from separating and striking the tail rotor blade (blade), resulting in damage to or loss of a blade, and subsequent vibration and loss of control of the helicopter.

DATES: Effective March 21, 2005.

The incorporation by reference of certain publications listed in the regulations is approved by the Director of the Federal Register as of March 21, 2005.

ADDRESSES: You may get the service information identified in this AD from American Eurocopter Corporation, 2701 Forum Drive, Grand Prairie, Texas 75053-4005, telephone (972) 641-3460, fax (972) 641-3527. You may examine this information at the National Archives and Records Administration (NARA). For information on the availability of this material at NARA, call (202) 741-6030, or go to: http://www.archives.gov/federal_register/code_of_federal_regulations/ibr_locations.html.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION: A proposal to amend 14 CFR part 39 to include an AD for the specified Eurocopter model helicopters was published in the Federal Register on September 8, 2004 (69 FR 54250). That action proposed to require removing and modifying the fuel bleed lever.

The Direction Generale de L'Aviation Civile (DGAC), the airworthiness authority for France, notified the FAA that an unsafe condition may exist on Eurocopter Model EC 130 and the AS 350 helicopters. The DGAC advises of some cases of loss of the fuel bleed lever in flight.

Eurocopter has issued Alert Service Bulletin (ASB) Nos. 28A001 for the Model EC130 B4 and 28.00.16 for the civil version of the Model AS350B, BA, BB, B1, B2, B3, D, and the military version of the Model L1 helicopters, both dated March 3, 2004. The ASB's specify removing and modifying the fuel bleed lever. The DGAC classified these ASB's as mandatory and issued AD Nos. F-2004-034 for the Model EC130 B4 pre-MOD 073239 and F-2004-033 for the Model AS350B, BA, BB, B1, B2, B3, and D helicopters, pre-MOD 073239, both dated March 17, 2004, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed.

The FAA estimates that this AD will affect 624 helicopters of U.S. registry. It will take about 1 work hour per helicopter to modify the fuel bleed lever at an average labor rate of $65 per work hour and it will cost about $300 for consumable materials. Based on these figures, we estimate the total cost impact of the AD on U.S. operators to be $227,760.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-03-08 Eurocopter France: Amendment 39-13964. Docket No. FAA-2004-19038; Directorate Identifier 2004-SW-24-AD.

Applicability: Model AS350B, BA, B1, B2, B3, C, D, D1, and EC130 B4 helicopters, pre-MOD 073239, with fuel bleed lever, part number (P/N) 350A55104320, installed, certificated in any category.

Compliance: Required within 6 months for the Model EC130 B4 helicopters and within 100 hours time-in-service or 6 months, whichever comes first, for the Model AS350B, BA, B1, B2, B3, C, D, and D1 helicopters, unless accomplished previously.

To prevent a fuel bleed lever from separating and striking the tail rotor blade (blade), resulting in damage to or loss of a blade, and subsequent vibration and loss of control of the helicopter, do the following:

(a) Remove and modify the fuel bleed lever, P/N 350A55104320, by following the Accomplishment Instructions, paragraph 2.B., of Eurocopter Alert Service Bulletin Nos. 28A001 for the Model EC130 B4 and 28.00.16 for the Model AS350B, BA, B1, B2, B3, C, D, and D1 helicopters, both dated March 3, 2004, as applicable. Reinstall the modified fuel bleed lever and mark it with P/N 350A08254720.

(b) To request a different method of compliance or a different compliance time for this AD, follow the procedures in 14 CFR 39.19. Contact the Safety Management Group, FAA, for information about previously approved alternative methods of compliance.

(c) The modification shall be done in accordance with Eurocopter Alert Service Bulletin Nos. 28A001 and 28.00.16, both dated March 3, 2004. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the National Archives and Records Administration (NARA). For information on the availability of this material at NARA, call 202-741-6030, or go to: http://www.archives.gov/federal_register/code_of_federal_regulations/ibr_locations.html.

(d) This amendment becomes effective on March 21, 2005.

Note: The subject of this AD is addressed in Direction Generale de L'Aviation Civile (France) AD Nos. F-2004-033 and F-2004-034, both dated March 17, 2004.

Issued in Fort Worth, Texas, on January 25, 2005.
Mark R. Schilling,
Acting Manager, Rotorcraft Directorate, Aircraft Certification Service.

[FR Doc. 05-2587 Filed 2-11-05; 8:45 am]

BILLING CODE 4910-13-P